DEPARTMENT OF EDUCATION

[Docket No.: ED-2021-SCC-0023]

Agency Information Collection Activities; Comment Request; NAEP 2021 School Survey

AGENCY: Institute for Education Sciences (IES), National Center for Education Statistics (NCES), Department of Education (ED).

ACTION: Notice.

SUMMARY: In accordance with the Paperwork Reduction Act of 1995, ED is requesting the Office of Management and Budget (OMB) to conduct an emergency review of an information collection.

DATES: The Department has requested emergency processing from OMB for this information collection request by February 12, 2021. Due to this emergency processing, the Department is also providing the public with the opportunity to comment for 30 days. Interested persons are invited to submit comments on or before March 19, 2021.

ADDRESSES: To access and review all the documents related to the information collection listed in this notice, please use http://www.regulations.gov by searching the Docket ID number ED-2021-SCC-0023. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Governance and Strategy Division, U.S. Department of Education, 400 Maryland Ave. SW, LBJ, Room 6W208B, Washington, DC 20202-8240.

FOR FURTHER INFORMATION CONTACT: For specific questions related to collection activities, please contact Carrie Clarady, 202-245-6347.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: XX School Survey.

OMB Control Number: 1850-NEW.

Type of Review: A new information collection.

Respondents/Affected Public: Individuals or Households.

Total Estimated Number of Annual Responses: 36,030.

Total Estimated Number of Annual Burden Hours: 18,016.

Abstract: The NAEP 2021 School Survey is collecting data necessary to fully understand the impact of the COVID-19 pandemic on students and educators, including data on the status of in-person learning. These data shall be disaggregated by student demographics, including race, ethnicity, disability, English-language-learner status, and free or reduced lunch status or other appropriate indicators of family income.” With the participation of educators and school leaders across the country, NCES will be able to report the percentages of students who received instruction remotely, in-person, or in a hybrid instructional mode for selected districts, states, and the nation. NCES will provide these data for various student groups, in addition to information about attendance rates, in an online dashboard. These metrics are intended to provide stakeholders with a clear portrait of equity in the type, frequency, and amount of instruction students receive monthly across the nation, and in states and participating districts. As monthly data are collected, stakeholders will be able to track progress. In addition, a summative report will be provided at the end of the collection, relating the results to those from the NAEP 2021 School and Teacher Questionnaire.

Additional Information: An emergency clearance approval for the use of the system is described due to the following conditions: NCES requests emergency clearance to comply with the January 21, 2021 Executive Order on Supporting the Reopening and Continuing Operation of Schools and Early Childhood Education Providers which states that the Department of Education must “coordinate with the Director of the Institute of Education Sciences to facilitate, consistent with applicable law, the collection of data necessary to fully understand the impact of the COVID-19 pandemic on students and educators, including data on the status of in-person learning. These data shall be disaggregated by student demographics, including race, ethnicity, disability, English-language-learner status, and free or reduced lunch status or other appropriate indicators of family income.” Normal clearance procedures would not allow IES to comply with the intent of this Executive Order.

Dated: February 11, 2021.
Stephanie Valentine,
PRA Coordinator, Strategic Collections and Clearance Governance and Strategy Division, Office of Chief Data Officer.

[FR Doc. 2021-03162 Filed 2-16-21; 8:45 am]

BILLING CODE 4000-01-P